DEPARTMENT OF COMMERCE

International Trade Administration

(A-821-801)

Solid Urea from the Russian Federation; Final Results of the Expedited Sunset Review of the Antidumping Duty Order

AGENCY: Import Administration, International Trade Administration, Department of Commerce.

SUMMARY: On October 1, 2004, the Department of Commerce (“the Department”) initiated a sunset review of the antidumping duty (“AD”) order on solid urea from the Russian Federation pursuant to section 751(c) of the Tariff Act of 1930, as amended (“the Act”). See Initiation of Five-year (Sunset) Reviews, 69 FR 58890 (October 1, 2004). On the basis of a notice of intent to participate and an adequate substantive response filed on behalf of the domestic interested parties and inadequate responses filed on behalf of respondent interested parties, the Department conducted an expedited sunset review. As a result of this review, the Department finds that revocation of the AD order would likely lead to continuation or recurrence of dumping at the levels indicated in the “Final Results of Review” section of this notice.

EFFECTIVE DATE: May 10, 2005.

FOR FURTHER INFORMATION CONTACT: Kelly Parkhill, Office of Policy for Import Administration, International Trade Administration, U.S. Department of Commerce, 14th Street and Constitution Avenue, NW., Washington, DC 20230; telephone: (202) 482-3791.

SUPPLEMENTARY INFORMATION:

Background

On October 1, 2004, the Department initiated a sunset review of the AD order on solid urea from the Russian Federation pursuant to section 751(c) of the Act. See Initiation of Five-year (Sunset) Reviews, 69 FR 58890 (October 1, 2004). The Department received a Notice of Intent to Participate from the following domestic interested parties: the Ad Hoc Committee of Domestic Nitrogen Producers, (consisting of CF Industries, Inc. and PCS Nitrogen Fertilizer, LP), and Agrium U.S., Inc. (collectively “the domestic interested parties”) within the deadline specified in section 351.218(d)(1)(i) of the Department's Regulations (“Sunset Regulations”). The domestic interested parties claimed interested party status under sections 771(9)(C) and (D) of the Act, as domestic manufacturers of urea or a coalition whose members are engaged in the production of urea in the United States. The Department received a complete substantive response collectively from the domestic interested parties within the 30-day deadline specified in 19 CFR 351.218(d)(3)(i). The Department received inadequate substantive responses from the respondent parties.¹ As a result, pursuant to section 751(c)(5)(3)(B) of the Act and 19 CFR 351.218(e)(1)(ii)(C)(2), the Department conducted an expedited sunset review of this order.

¹ On December 10, 2004, both respondent and domestic interested parties filed comments on the Department's adequacy determination in this sunset review. The Department's consideration of these comments are addressed in the Issues and Decision Memorandum (“Decision Memorandum”) from Ronald K. Lorentzen, Acting Director, Office of Policy, Import Administration, to Joseph A. Spetrini, Acting Assistant Secretary for Import Administration, dated May 2, 2005, which is hereby adopted by this notice.

Scope of the Order

Merchandise covered by this order is solid urea, a high-nitrogen content fertilizer which is produced by reacting ammonia with carbon dioxide. The product is currently classifiable under the Harmonized Tariff Schedules of the United States Annotated (“HTS”) item 3102.10.00.00. During previous reviews such merchandise was classified under item number 480.3000 of the Tariff Schedules of the United States. The HTS item number is provided for convenience and customs purposes. The written description remains dispositive as the scope of the product coverage.

Analysis of Comments Received

All issues raised in this review are addressed in the Decision Memorandum accompanying this notice. The issues discussed in the Decision Memorandum include the likelihood of continuation or recurrence of dumping and the margins likely to prevail were the order revoked. Parties can find a complete discussion of all issues raised in this review and the corresponding recommendations in this public memorandum which is on file in the Central Records Unit, room B-099, of the main Commerce building. In addition, a complete version of the Decision Memorandum can be accessed directly on the Web at http://ia.ita.doc.gov/frn, under the heading “May 2005.” The paper copy and electronic version of the Decision Memorandum are identical in content.

Final Results of Review

We determine that revocation of the antidumping duty order on solid urea from the Russian Federation would be likely to lead to continuation or recurrence of dumping at the rate listed below:

Producers/Exporters | Margin (percent)
Phillip Brothers, Ltd./Phillip Brothers, Inc. | 53.23
All Others | 68.26

Notification regarding Administrative Protective Order:

This notice also serves as the only reminder to parties subject to administrative protective order (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are publishing this notice in accordance with sections 751(c), 752, and 777(i)(1) of the Act.

Dated: May 2, 2005.
Joseph A. Spetrini,
Acting Assistant Secretary for Import Administration.

[FR Doc. E5-2289 Filed 5-9-05; 8:45 am]

BILLING CODE 3510-DS-S